DEPARTMENT OF HEALTH AND HUMAN SERVICES

Administration for Children and Families

Submission for OMB Review; Income Withholding Order/Notice for Support (IWO)

AGENCY: Office of Child Support Enforcement; Administration for Children and Families; HHS.

ACTION: Request for Public Comment.

SUMMARY: The Administration for Children and Families (ACF) is requesting a three-year extension of the form Income Withholding Order/Notice for Support (IWO) (OMB #0970-0154, expiration 8/31/2020). This request includes minor revisions to the approved forms.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The IWO is the standard form that must be used to order and notify employers and income providers to withhold child support payments from an obligor's income. It also indicates where employers and other income providers must remit the payments and other information needed to withhold correctly.

Child support agencies, courts, private attorneys, custodial parties, and others must use the IWO form to initiate an income withholding order for support and give notice of income withholding. State child support agencies are required to have automated data processing systems containing current order and case information. State child support agencies providing services to custodial and/or noncustodial parties enter the terms of a child support order established by a tribunal into the state's automated system, which automatically populates the order information into the IWO form.

Employers and income providers also use the form to respond to the order/notice with termination or income status information. Employers and other income providers may choose to receive the IWO form from child support agencies on paper or electronically, and may respond on paper or electronically to notify the sender of termination of employment or change in the income status.

The information collection activities pertaining to the IWO form are authorized by 42 U.S.C. 666(a)(1), (a)(8), and 666(b)(6), which require the use of the IWO form to order income withholding for all child support orders.

Respondents: Courts, private attorneys, custodial parties or their representatives, employers, and other parties that provide income to noncustodial parents.

Annual Burden Estimates
Instrument | Total number of respondents | Number of responses per respondent | Average burden hours per response | Annual burden hours
Income withholding order/notice (courts, private attorneys, custodial parties or their representatives) | 4,091,591 | 1.00 | 5 minutes | 340,966
Income withholding orders/termination of employment/income status (employers and other income providers) | 1,256,624 | 9.07 | 2 minutes | 379,919
Electronic income withholding orders/termination of employment/income status (employers and other income providers) | 19,000 | 96.30 | 30 seconds | 1,525

Estimated Total Annual Burden Hours: 722,410.

Authority: 42 U.S.C. 666(a)(1), (a)(8), and 666(b)(6).

Mary B. Jones,
ACF/OPRE Certifying Officer.

[FR Doc. 2020-12795 Filed 6-12-20; 8:45 am]

BILLING CODE 4184-41-P